DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy.

The following patents are available for licensing: U.S. Patent No. 5,880,552: Diamond or Diamond Like Carbon Coated Chemical Sensors and a Method of Making Same, Navy Case No. 77,845.//U.S. Patent No. 6,208,752: System for Eliminating or Reducing Exemplar Effects in Multispectral or Hyperspectral Sensors, Navy Case No. 78,735.//U.S. Patent 6,320,295: Diamond or Diamond Like Carbon Coated Chemical Sensors and a Method of Making Same, Navy Case No. 79,589//U.S. Patent No. 6,336,368: Method and Apparatus for Energy Efficient Tracking of Resonant Devices, Navy Case No. 79,877.//U.S. Patent Application Serial No. 09/433,367: Hyperspectral Visualization Extensible Workbench (Hyview), Navy Case No. 79,087.//U.S. Patent Application Serial No. 09/492,071: Fabrication of Patternable Electrically Conductive Thin Films for Chemiresistor Chemical Sensor Applications with Layer Evaporation Technique, Navy Case No. 79,708.//U.S. Patent Application Serial No. 10/080,403: Functionalized Small Molecules for Sensor Applications, Navy Case No. 80,053.//U.S. Patent Application Serial No. 10/046,298: Novel Chemoselective Dendritic Polymers for Chemical Sensor Applications, Navy Case No. 80,055.//U.S. Patent Application Serial No. 09/895,292: Linear and Branched Chemoselective Carbosilanes and Polysilanes for Chemical Sensor Applications, Navy Case No. 80,056.//U.S. Patent Application Serial No. 09/895,293: Linear and Branched Chemoselective Poly (siloxane)s for Chemical Sensor Applications, Navy Case No. 80,123.//U.S. Patent Application Serial No. 10/091,024: Hyperbranched Chemoselective Silicon-Based Polymers for Chemical Sensor Applications, Navy Case No. 83,517.//Navy Case No. 82,971: Device and Method for Pneumatic Gas Sampling for Gas Sensors.//Navy Case No. 83,418: Fabrication of Conductive/Non-Conductive Nanocomposites by Laser Evaporation.//Navy Case No. 84,285: Hyperbranched Chemoselective Silicon-Based Polymers for Chemical Sensor Applications.//Navy Case No. 84,508: A Miniature Biocollector and Processing Technique for Biological Agent Detection Applications.

ADDRESSES: Requests for copies of the patents or inventions cited should be directed to the Naval Research Laboratory, Code 1004, 4555 Overlook Avenue, SW., Washington, DC 20375-5320, and must include the Navy Case number.

FOR FURTHER INFORMATION CONTACT: Catherine M. Cotell, Ph.D., Head, Technology Transfer Office, NRL Code 1004, 4555 Overlook Avenue, SW., Washington, DC 20375-5320, telephone (202) 767-7230. Due to temporary U.S. Postal Service delays, please fax (202) 404-7920, E-Mail: cotell@nrl.navy.mil or use courier delivery to expedite response.

Authority: 35 U.S.C. 207, 37 CFR part 404.

Dated: February 27, 2003.
R.E. Vincent II,
Lieutenant Commander, Judge Advocate General's Corps, U.S. Navy, Federal Register Liaison Officer.

[FR Doc. 03-5127 Filed 3-4-03; 8:45 am]

BILLING CODE 3810-FF-U